DEPARTMENT OF JUSTICE

Notice of Lodging of Consent Decree Under the Clean Air Act

Notice is hereby given that on January 27, 2003, a proposed consent decree in United States v. Del Webb Communities, Inc., No. CV-S-03-0096-LDG-LRL, was lodged with the United States District Court for the District of Nevada.

The Consent Decree resolves claims brought in a complaint filed concurrently with the lodging of the Consent Decree. The complaint alleges that defendant Del Webb Communities, Inc. failed to comply with Clean Air Act requirements to control fugitive dust at construction projects in Clark County, Nevada.

Under the proposed Consent Decree, Del Webb will pay a $50,000 civil penalty. In addition, Del Webb will commit to injunctive relief requiring that it implement necessary work practices to control dust emissions in the future and provide training in such practices to its employees.

The Department of Justice will receive for a period of thirty (30) days from the date of this publication comments relating to the consent decree. Comments should be addressed to the Assistant Attorney General, Environment and Natural Resources Division, P.O. Box 7611, U.S. Department of Justice, Washington, DC 20044-7611, and should refer to United States v. Del Webb Communities, Inc., D.J. Ref. No. 90-5-2-1-07313.

The consent decree may be examined at the offices of U.S. EPA Region 9, 75 Hawthorne Street, San Francisco, California 94105, and at the Office of the United States Attorney, District of Nevada, 333 Las Vegas Blvd. So., #5000, Las Vegas, Nevada 89101 (refer to NSAO No.: 2000V00330). During the public comment period, the consent decree may be examined on the following Department of Justice Web site: http://www.usdoj.gov/enrd/open.html. A copy of the consent decree may also be obtained by mail from the Consent Decree Library, P.O. Box 7611, U.S. Department of Justice, Washington, DC. 20044-7611, U.S. Department of Justice, Washington, DC 20044-7611, or by e-mailing or faxing a request to Tonia Fleetwood (tonia.fleetwood@usdoj.gov), fax no. (202) 514-0097, phone confirmation number (202) 514-1547. In requesting a copy, please enclose a check in the amount of $5.50 (25 cents per page reproduction cost) payable to the U.S. Treasury.

Ellen M. Mahan,
Assistant Chief, Environment Enforcement Section, Environment and Natural Resources Division.

[FR Doc. 03-3523 Filed 2-12-03; 8:45 am]

BILLING CODE 4410-15-M